DEPARTMENT OF AGRICULTURE

Forest Service

Miller West Fisher Project, Kootenai National Forest, Lincoln County, MT

AGENCY: Forest Service, USDA.

ACTION: Notice of intent to prepare an environmental impact statement.

SUMMARY: The Forest Service will prepare an Environmental Impact Statement (EIS) to disclose the environmental effects of vegetation management through commercial timber harvest, precommercial thinning and prescribed fire; access management changes; trail construction and improvement; treatment of fuels in campgrounds; and watershed rehabilitation activities. The project is located in the Silverfish planning subunit on the Libby Ranger District, Kootenai National Forest, Lincoln County, Montana, and south of Libby, Montana.

Scoping Comment Date: The scoping period will close and comments will be due 30 days following publication of this notice.

ADDRESSES: Written comments and suggestions concerning the scope of the analysis should be sent to Malcolm R. Edwards, District Ranger, Libby Ranger District, 12557 Hwy 37, Libby, MT 59923.

FOR FURTHER INFORMATION CONTACT: Contact Leslie Ferguson, Team Leader, Libby Ranger District, 12557 Hwy 37, Libby, MT 59923. Phone: (406) 293-7773.

SUPPLEMENTARY INFORMATION: The project area is approximately 20 air miles south of Libby, Montana, within all or portions of T27N, R29W-R31W, T26N, R29W-R31W, and T25N, R29W-R31W, PMM, Lincoln County, Montana. The area contains the Miller, West Fisher and Silver Butte Creek watersheds.

The purpose and need for this project is to (1) Maintain ecosystem function and vegetative health; (2) Reduce hazardous fuels and restore natural fire regimes; (3) Provide commodities; (4) Provide appropriate levels and types of access while minimizing impacts to resources; (5) Maintain or improve watershed condition; (6) Maintain or improve wildlife habitat; and (7) Improve recreational opportunities through several segments of trial reconstruction, and fuels treatment in Lake Creek campground.

To meet this purpose and need this project proposes:

(1) Vegetation treatments, including commercial timber harvest and associated fuel treatments, precommercial thinning, and prescribed burning without associated timber harvest. Vegetation treatments total 5,800 acres of treated area.

(2) Road and access management, including access changes new road construction, and road storage and decommissioning. Access changes would occur over approximately 8.72 miles. Approximately 1.2 miles of new road construction if proposed. Approximately 12.1 miles of road storage and 0.87 of road decommissioning are also proposed.

(3) Improvement, construction and reconstruction of trail tread for a total of 5.5 miles in the project area.

(4) Fuels and hazardous tree removal in Lake Creek Campground.

(5) Watershed condition improvement in the form of best management practices (BMP) implementation, including installation of ditch relief culverts, culvert replacement, surface water deflectors and cleaning ditches is proposed for all haul routes. Additional BMP work on roads not used for timber haul is proposed and will be performed as funding becomes available. Stream stabilization projects are also proposed.

(6) Design features and mitigations to maintain and protect resource values.

Range of Alternatives: The Forest Service will consider a range of alternatives. One of these will be the “no action” alternative in which none of the proposed activities will implemented. Additional alternatives will examine varying levels and locations for the proposed activities to achieve the proposal's purposes, as well as to respond to the issues and other resource values.

Public Involvement and Scoping: The public is encouraged to take part in the process and to visit with Forest Service officials at any time during the analysis and prior to the decision. The Forest Service will be seeking information, comments, and assistance from Federal, State, and local agencies, Tribal governments, and other individuals or organizations that may be interested in, or affected by, the proposed action. This input will be used in preparation of the draft and final EIS. The scoping process will include:

1. Identifying potential issues.

2. Identifying major issues to be analyzed in depth.

3. Identifying alternatives to the proposed action.

4. Exploring additional alternatives that will be derived from issues recognized during scoping activities.

5. Identifying potential environmental effects of this proposal (i.e. direct, indirect, and cumulative effects and connected actions).

Estimated Dates For Filing: The draft EIS is expected to be filed with the Environmental Protection Agency (EPA) and to be available for public review in April of 2006. At that time EPA will publish a Notice of Availability of the draft EIS in the Federal Register. The comment period on the draft EIS will be 45 days from the date the EPA publishes the Notice of Availability in the Federal Register. It is very important that those interested in the management of this area participate at that time.

The final EIS is scheduled to be completed in July 2006. In the final EIS, the Forest Service is required to respond to comments and responses received during the comment period that pertain to the environmental consequences discussed in the draft EIS and to applicable laws, regulations, and policies considered in making a decision regarding the proposal.

Reviewer's Obligations: The Forest Service believes it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider and respond to them in the final EIS.

To be most helpful, comments on the draft EIS should be as specific as possible and may address the adequacy of the statement or the merit of the alternatives discussed. Reviewers may wish to refer to the Council on Environmental Quality regulations for implementing the procedural provisions of the National Environmental Policy Act at 40 CFR 1503.3 in addressing these points.

Responsible Official: As the Forest Supervisor of the Kootenai National Forest, 1101 U.S. Highway 2 West, Libby, MT 59923, Bob Castaneda is the Responsible Official. As the Responsible Official, Bob will decide if the proposed project will be implemented. Bob will document the decision and reasons for the decision in the Record of Decision. Bob has delegated the responsibility for preparing the DEIS and FEIS to Malcolm R. Edwards, District Ranger, Libby Ranger District.

Dated: January 4, 2006.
Cami Winslow,
Acting Forest Supervisor, Kootenai National Forest.

[FR Doc. 06-248 Filed 1-11-06; 8:45am]

BILLING CODE 3410-11-M